DEPARTMENT OF THE INTERIOR

Bureau of Land Management

[LLORP00000.L10200000.DD0000; HAG 11-0187]

Notice of Public Meeting, John Day-Snake Resource Advisory Council

AGENCY: Bureau of Land Management, Interior.

ACTION: Notice of public meeting.

SUMMARY: Pursuant to the Federal Land Policy and Management Act and the Federal Advisory Committee Act, the U.S. Department of the Interior, Bureau of Land Management (BLM) John Day-Snake Resource Advisory Council (RAC) will meet as indicated below:

DATES: The RAC meeting will take place on May 3 and May 4, 2011.

ADDRESSES: The meeting will be held at The Dalles Inn, 112 West 2nd Street, The Dalles, Oregon 97058.

FOR FURTHER INFORMATION CONTACT: Mark Wilkening, Public Affairs Specialist, BLM Vale District Office, 100 Oregon Street, Vale, Oregon 97918, (541) 473-6218 or e-mail mark_wilkening@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The business meeting will take place from 8 a.m. to 5 p.m. on May 3, 2011, at The Dalles Inn, 112 West 2nd Street, The Dalles, Oregon 97058. The agenda may include such topics as: a presentation on the Environmental Impact Statement (EIS) being prepared for the Navy Bombing Range at Boardman Oregon; an update on the Baker Resource Management Plan; an update on The John Day Resource Management Plan; the Forest Service Blue Mountain Plan revision; John Day Environmental Assessment (EA) and Permit System; Status Report on the BLM Vegetation EIS step-down to the District Treatments; information on the effects of the Department of the Interior's Wild Lands policy, a report by the Federal Managers on litigation, energy projects and other issues affecting their Districts; an orientation for new members of the RAC; and other matters that may reasonably come before the council. The public is welcome to attend all portions of the meeting and may make oral comments to the Council at 1 p.m. on May 3, 2011. Those who verbally address the RAC are asked to provide a written statement of their comments or presentation. Unless otherwise approved by the RAC Chair, the public comment period will last no longer than 15 minutes, and each speaker may address the RAC for a maximum of five minutes. If reasonable accommodation is required, please contact the BLM Vale District Office at (541) 473-6218 as soon as possible. A field trip is scheduled for May 4, 2011; the RAC will view the proposed new State of Oregon Campground, Cottonwood Canyon. In addition, the RAC members will have an opportunity to discuss issues concerning the John Day River and corridor.

Debbie Henderson-Norton,
Prineville District Manager.

[FR Doc. 2011-8079 Filed 4-4-11; 8:45 am]

BILLING CODE 4310-33-P